DEPARTMENT OF DEFENSE

Department of the Army

Notice of Availability of a Record of Decision (ROD) for Base Realignment and Closure Actions and Enhanced Use Lease (EUL) Actions at Fort Meade, MD

AGENCY: Department of the Army,DoD.

ACTION: Record of decision.

SUMMARY: The Department of the Army announces the availability of a ROD which summarizes the decision for implementing realignment actions as directed by the Base Realignment and Closure (BRAC) Commission and Department of Defense (DoD) EUL actions at Fort Meade, Maryland.

ADDRESSES: To obtain a copy of the ROD, contact the Public Affairs Office, Fort George G. Meade, 4550 Pershing Hall, Room 120, Fort Meade, MD 20755-5025; e-mail meade.pao@conus.army.mil.

FOR FURTHER INFORMATION CONTACT: Ms. Melanie Moore, Public Affairs Office, at (301) 677-1361 during normal business hours Monday through Friday.

SUPPLEMENTARY INFORMATION: The Army has decided to proceed with implementing the Proposed Action consistent with the analysis in the Environmental Impact Statement (EIS) dated August 2007, supporting studies and comments provided during formal comment and review periods. The Proposed Action includes construction and operation of proposed facilities to accommodate incoming military missions at Fort Meade. To implement the BRAC recommendations, Fort Meade will be receiving personnel, equipment, and missions from various closure and realignment actions within the DoD. To implement the BRAC Commission recommendations, the Army will provide the necessary facilities, buildings, and infrastructure to support incoming military missions and a net gain of about 5,700 personnel as mandated by the 2005 BRAC Commission's recommendations at Fort Meade. In addition, the Army will implement the DoD EUL actions which will include issuing a 50-year lease to a private developer for development of office and administrative buildings for an estimated 10,000 personnel on two parcels of land. In consideration, the developer will develop and construct two 18-hole golf courses on a third parcel of land. The No Action Alternative would not meet the Army's purpose and need for the Proposed Action as the BRAC realignment is required by Congress and needed for Army transformation to be effective.

Special consideration was given to the effect of the Proposed Action on natural resources, cultural resources, and traffic. All practicable means to avoid or minimize environmental harm from the selected alternative have been adopted. The Army will minimize effects on all environmental and socioeconomic resources by implementing best management practices as described in the EIS. Mitigation measures, as described in the ROD, will be implemented (subject to the availability of funding) to minimize, avoid, or compensate for the adverse effects identified in the EIS for water resources, biological resources, and transportation. The EIS also identifies transportation projects that could minimize adverse impacts from implementing the Proposed Action. The ROD describes the approach the Army will take to mitigate traffic concerns.

The ROD determines that implementing the Proposed Action reflects a proper balance between initiatives for protection of the environment, appropriate mitigation, and actions to achieve the Army's requirements.

An electronic version of the ROD can be viewed or downloaded from the following Web site: http://www.hqda.army.mil/acsim/brac/nepa_eis_docs.htm.

Dated: November 13, 2007.
Addison D. Davis, IV,
Deputy Assistant Secretary of the Army (Environment, Safety and Occupational Health).

[FR Doc. 07-5770 Filed 11-20-07; 8:45 am]

BILLING CODE 3710-08-M